DEPARTMENT OF COMMERCE

National Oceanic and Atmospheric Administration

RIN 0648-XD247

Marine Mammals; File No. 18691

AGENCY: National Marine Fisheries Service (NMFS), National Oceanic and Atmospheric Administration (NOAA), Commerce.

ACTION: Notice; receipt of application.

SUMMARY: Notice is hereby given that Terrie M. Williams, Ph.D., Department of Ecology and Evolutionary Biology, Center for Ocean Health, Long Marine Laboratory, University of California Santa Cruz, 100 Shaffer Road, CA 95060, has applied in due form for a permit to conduct research on Weddell seals (Leptonycotes weddellii).

DATES: Written, telefaxed, or email comments must be received on or before May 19, 2014.

ADDRESSES: The application and related documents are available for review by selecting “Records Open for Public Comment” from the Features box on the Applications and Permits for Protected Species (APPS) home page, https://apps.nmfs.noaa.gov, and then selecting File No. 18691 from the list of available applications.

These documents are also available upon written request or by appointment in the following office:

Permits and Conservation Division, Office of Protected Resources, NMFS, 1315 East-West Highway, Room 13705, Silver Spring, MD 20910; phone (301)427-8401; fax (301)713-0376.

Written comments on this application should be submitted to the Chief, Permits and Conservation Division, at the address listed above. Comments may also be submitted by facsimile to (301)713-0376, or by email to NMFS.Pr1Comments@noaa.gov. Please include File No. 18691 in the subject line of the email comment.

Those individuals requesting a public hearing should submit a written request to the Chief, Permits and Conservation Division at the address listed above. The request should set forth the specific reasons why a hearing on this application would be appropriate.

FOR FURTHER INFORMATION CONTACT: Amy Sloan or Courtney Smith, (301)427-8401.

SUPPLEMENTARY INFORMATION: The subject permit is requested under the authority of the Marine Mammal Protection Act of 1972, as amended (MMPA; 16 U.S.C. 1361 et seq.), and the regulations governing the taking and importing of marine mammals (50 CFR part 216).

The applicant requests a 5-year permit to study sub-ice navigation and orientation of Weddell seals in the area around Ross Island, McMurdo Sound, Antarctica. The purpose of the study is to understand key sensory modalities used for locating breathing holes in the sea ice and to address the overarching questions: Do Weddell seals possess a magnetic sense, and do they use it to sense Earth's geomagnetic field for navigating under sea ice over small spatial scales? In each of three annual field seasons (3 months during July-December across a 5-year project), up to 12 seals will be captured, sedated, weighed, measured, and have ultrasound and metabolic measurements taken. Eight of those 12 animals will also be instrumented and translocated within their home range. Up to 20 Weddell seals may be incidentally disturbed and up to two Weddell seals may die during research activities during each of the three annual field seasons. Samples may be imported to the U.S. from Antarctica.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 14, 2014.
Tammy C. Adams,
Acting Chief, Permits and Conservation Division, Office of Protected Resources, National Marine Fisheries Service.

[FR Doc. 2014-08837 Filed 4-17-14; 8:45 am]

BILLING CODE 3510-22-P